DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date of Meeting: 26 January 2001.

Time of Meeting: 0800-1500.

Place of Meeting: Fort Belvoir, Virginia.

Agenda: The Army Science Board's (ASB) Special Summer Study on “Manpower and Personnel for the Soldier Systems in the Objective Force” will have an introductory meeting to discuss their Terms of Reference, Jan 2001 (Draft) and plans for future effort. A copy of the agenda is provided below: These meetings will be open to the public. Any interested person may attend, appear before, or file statements with the committee at the time and in the manner permitted by the committee. For further information, please contact, Ms. Chérie Smith (703) 806-4237.

Agenda Topics

Welcome—0800-0815

Soldier Systems 2001 Main Study—0815-0900

Future Soldiers a View—0900-0945

Manpower & Personnel Special Study—0945-1000

R&D Program 2001—1000-1045

Break—1045-1100

MANPRINT and FCS—1100-1130

USAR Prospective—1130-1215

Working Lunch—1215-1300

Team Discussion (TOR, Organization, Next Agenda)—1300-1500

Wayne Joyner,
Program Support Specialist, Army Science Board.

[FR Doc. 01-2390 Filed 1-25-01; 8:45 am]

BILLING CODE 3710-08-M